DEPARTMENT OF ENERGY

Energy Efficiency and Renewable Energy

Meetings: State Energy Advisory Board

AGENCY: Energy Efficiency and Renewable Energy, Department of Energy.

ACTION: Notice of open meeting.

SUMMARY: This notice announces a live open meeting of the State Energy Advisory Board (STEAB). The Federal Advisory Committee Act (Pub. L. 92-463; 86 Stat. 770) requires that public notice of these meetings be announced in the Federal Register.

DATES: March 12, 2013, 9:00 a.m.-5:00 p.m.

March 13, 2013, 9:00 a.m.-5:00 p.m.

ADDRESSES: Double Tree by Hilton Hotel Washington, DC—Crystal City (in the Jefferson Room), 300 Army Navy Drive, Arlington, Virginia 22202.

FOR FURTHER INFORMATION CONTACT: Gil Sperling, STEAB's Designated Federal Officer, U.S. Department of Energy, Office of Energy Efficiency and Renewable Energy, 1000 Independence Avenue SW, Washington, DC 20585.

SUPPLEMENTARY INFORMATION:

Purpose of the Board: To provide advice and make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Receive in person updates and reviews of accomplishment of STEAB's Subcommittee and Task Forces, meet with members of DOE's Office of Energy Efficiency and Renewable Energy (EERE), discuss new initiatives and technologies generated by the EERE program areas, explore energy financing options, meet with senior-level EERE staff to discuss strategic planning opportunities, and update to the Board on routine business matters and other topics of interest.

Public Participation: The meeting is open to the public. Written statements may be filed with the Board either before or after the meeting. Members of the public who wish to make oral statements pertaining to agenda items should contact Gil Sperling at the address listed above. Requests to make oral comments must be received five days prior to the meeting; reasonable provision will be made to include requested topic(s) on the agenda. The Chair of the Board is empowered to conduct the meeting in a fashion that will facilitate the orderly conduct of business.

Minutes: The minutes of the meeting will be available for public review and copying within 90 days on the STEAB Web site, www.steab.org.

Issued at Washington, DC, on February 8, 2013.
LaTanya R. Butler,
Deputy Committee Management Officer.

[FR Doc. 2013-03433 Filed 2-14-13; 8:45 am]

BILLING CODE 6450-01-P